JUDICIAL CONFERENCE OF THE UNITED STATES

Hearings of the Judicial Conference Advisory Committees on Rules of Appellate, Bankruptcy, and Criminal Procedure, and the Federal Rules of Evidence

AGENCY: Advisory Committees on Rules of Appellate, Bankruptcy, and Criminal Procedure, and the Federal Rules of Evidence; Judicial Conference of the United States.

ACTION: Notice of proposed amendments and open hearings.

SUMMARY: The Advisory Committees on Rules of Appellate, Bankruptcy, and Criminal Procedure, and Rules of Evidence have proposed amendments to the following rules:

Appellate Rule: 6.

Bankruptcy Rules: 1014, 7004, 7008, 7012, 7016, 7054, 8001-8028, 9023, 9024, 9027, and 9033, and Official Forms 3A, 3B, 6I, 6J, 22A-1, 22A-2, 22B, 22C-1 and 22C-2.

Criminal Rules: 5 and 58.

Evidence Rule 801 and 803.

Public hearings are scheduled to be held on the amendments to:

• Appellate Rules in Chicago, Illinois, on January 18, 2013, and in Washington, DC, on February 1, 2013;

• Bankruptcy Rules in Chicago, Illinois, on January 18, 2013, and in Washington, DC, on February 1, 2013;

• Criminal Rules in Boston, Masssachusetts, on January 4, 2013, and in Washington DC, on January 28, 2013; and

• Evidence Rules in Boston, Massachusetts, on January 4, 2013, and in Washington, DC, on January 22, 2013.

Those wishing to testify should contact the Secretary at the address below in writing at least 30 days before the hearing. All written comments and suggestions with respect to the proposed amendments must be placed in the hands of the Secretary as soon as convenient and not later than February 15, 2013. They can be sent by one of the following three ways: by mail to Secretary, Committee on Rules of Practice and Procedure of the Judicial Conference of the United States, Thurgood Marshall Federal Judiciary Building, Washington, DC 20544; by electronic mail at Rules_Comments@ao.uscourts.gov; or by facsimile to (202) 502-1755. In accordance with established procedures all comments submitted are available for public inspection.

The text of the proposed rules amendments and the accompanying Committee Notes can be found at the United States Federal Courts' Web site at http://www.uscourts.gov/rulesandpolicies/rules.aspx/.

FOR FURTHER INFORMATION CONTACT: Benjamin J. Robinson, Deputy Rules Officer and Counsel, Administrative Office of the United States Courts, Washington, DC 20544, telephone (202) 502-1820.

Dated: August 15, 2012.
Benjamin J. Robinson,
Deputy Rules Officer and Counsel.

[FR Doc. 2012-20283 Filed 8-16-12; 8:45 am]

BILLING CODE 2210-55-P